DEPARTMENT OF COMMERCE

Foreign-Trade Zones Board

[Order No. 1293]

Approval for Expansion of Facilities and Manufacturing Authority at Subzone 61H; Baxter Healthcare Corporation Plant (Pharmaceuticals), Guayama, PR

Pursuant to its authority under the Foreign-Trade Zones Act of June 18, 1934, as amended (19 U.S.C. 81a-81u), the Foreign-Trade Zones Board (the Board) adopts the following Order:

Whereas, the Puerto Rico Exports Development Corporation, grantee of Foreign-Trade Zone 61, has requested authority on behalf of Baxter Healthcare Corporation (Baxter), to expand the subzone boundaries and to expand the scope of manufacturing authority in terms of products and capacity under zone procedures within Subzone 61H at the Baxter pharmaceutical manufacturing plant in Guayama, Puerto Rico (FTZ Docket 35-2002, filed 9/10/2002);

Whereas, notice inviting public comment has been given in the Federal Register (67 FR 58584, 9/17/02);

Whereas, the Board adopts the findings and recommendations of the examiner's report, and finds that the requirements of the FTZ Act and Board's regulations are satisfied, and that the proposal is in the public interest;

Now, therefore, the Board hereby orders:

The application to add capacity and to expand the scope of manufacturing authority under zone procedures within Subzone 61H at the pharmaceutical manufacturing plant of Baxter Healthcare Corporation in Guayama, Puerto Rico, is approved, subject to the FTZ Act and the Board's regulations, including Section 400.28.

Signed at Washington, DC, this 25th day of August 2003.
Jeffrey May,
Acting Assistant Secretary of Commerce for Import Administration, Alternate Chairman, Foreign-Trade Zones Board.

[FR Doc. 03-23071 Filed 9-9-03; 8:45 am]

BILLING CODE 3510-DS-P